DEPARTMENT OF COMMERCE

International Trade Administration

Mission/Exhibition Evaluation Form

ACTION: Proposed collection; comment request.

SUMMARY: The Department of Commerce, as part of its continuing effort to reduce paperwork and respondent burdens, invites the general public and other Federal agencies to take this opportunity to comment on the continuing information collections, as required by the Paperwork Reduction Act of 1995, Pub. L. 104-13 (44 U.S.C. 3506(c)(2)(A)).

DATES: Written comments must be submitted on or before June 20, 2005.

ADDRESSES: Direct all written comments to Diana Hynek, Departmental Paperwork Clearance Officer, Department of Commerce, Room 6612, 14th & Constitution Avenue, NW., Washington, DC 20230 or via the Internet at dHynek@doc.gov.

FOR FURTHER INFORMATION CONTACT: Request for additional information or copies of the information collection instrument and instructions should be directed to: Joseph English, U.S. & Foreign Commercial Service, Global Trade Programs, Room 2810, 14th & Constitution Avenue, NW., Washington, DC 20230; Phone number: (202) 482-3334, and fax number: (202) 482-0115.

SUPPLEMENTARY INFORMATION:

I. Abstract

Department of Commerce (DOC) and DOC-certified trade missions and exhibitions are overseas events planned, organized and led by government and non-government export promotion agencies such as industry trade associations; agencies of Federal, State, and local governments; Congressional representatives; chambers of commerce; regional consortia; and other export-oriented groups. These events are evaluated at the close of the program by completion of the Mission/Exhibition Evaluation form. This submission renews OMB approval of the form.

This form is used to: (1) Evaluate the effectiveness of DOC or DOC-certified overseas trade events through the collection of information relating to required performance measures; (2) document the results of participation in DOC events; (3) evaluate results reported by small to mid-sized, new-to-export/new-to-market U.S. companies; (4) document the successful completion of trade promotion activities conducted by overseas DOC offices; (5) identify strengths and weaknesses of DOC trade promotion programs, in the interest of improving service to the U.S. business community.

II. Method of Collection

Form ITA-4075P is completed on-site at the end of an overseas mission or exhibition by participating U.S. firms, who return it to the Department of Commerce exhibition manager at the close of the event upon request.

III. Data

OMB Number: 0625-0034.

Form Number: ITA-4075P.

Type of Review: Regular Submission.

Affected Public: Companies participating in Commerce Department trade promotion events.

Estimated Number of Respondents: 2,000.

Estimated Time per Response: 5 minutes.

Estimated Total Annual Burden Hours: 167 hours.

Estimated Total Annual Costs: The estimated annual cost for this collection is $9,245.00 ($5,845.00 for respondents and $3,400.00 for Federal government employees).

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: April 15, 2005.
Madeleine Clayton,
Management Analyst, Office of the Chief Information Officer.

[FR Doc. 05-7916 Filed 4-19-05; 8:45 am]

BILLING CODE 3510-FP-P